DEPARTMENT OF TRANSPORTATION

Office of the Secretary

[Docket Number—DOT-OST-2008-0196]

Renewal of Approval of Information Collection Requirements

AGENCY: Office of the Secretary, DOT.

ACTION: Notice and request for comment.

OMB Control No.: 2100-0019.

Title: Transportation for Individuals with Disabilities; Accessibility of Over-the-Road Buses (OTRBs).

SUMMARY: In compliance with the Paperwork Reduction Act of 1995, Public Law 104-13, this notice announces the U.S. Department of Transportation, Office of the Secretary, (DOT) intention to request an extension of the information collection request (ICR) OMB No. 2100-0019, Americans with Disabilities Act (ADA): Information Collection Requirements for the ADA Rule for Over-the-Road Buses. DOT invites the general public, industry and other governmental parties to comment on the Department's request for the renewal Paperwork Reduction Act approval of the information requirements in Subpart H of 49 CFR Part 37, concerning over-the-road buses. The current request approved by OMB expires on August 31, 2008.

DATES: Written comments should be submitted by October 27, 2008.

ADDRESSES: You may file comments identified by the docket number DOT-OST-2008-0196 by any of the following methods:

• Federal eRulemaking Portal: Go to http://www.regulations.gov and follow the online instructions for submitting comments.

• Mail: Docket Management Facility, U.S. Department of Transportation, 1200 New Jersey Ave., SE., West Building Ground Floor, Room W12-140, Washington, DC 20590-0001.

• Hand Delivery or Courier: West Building Ground Floor, Room W12-140, 1200 New Jersey Ave., SE., between 9 a.m. and 5 p.m. ET, Monday through Friday, except Federal Holidays.

• Fax: (202) 493-2251.

Instructions: You must include the agency name and docket number DOT-OST-2008-0196 at the beginning of your comment. All comments received will be posted without change to http://www.regulations.gov, including any personal information provided.

Privacy Act: Anyone is able to search the electronic form of any written communications and comments received into any of our dockets by the name of the individual submitting the document (or signing the document, if submitted on behalf of an association, business, labor union, etc.). You may review DOT's complete Privacy Act Statement in the Federal Register published on April 11, 2000 (Volume 65, Number 70; Pages 19477-78), which may also be found at http://www.regulations.gov.

You may request confidential treatment of comments or portions of comments under the procedures set forth in 49 CFR Part 105. While all comments should be sent to the FDMS, OST will consider separately and not place in the public docket those comments or portions of comments OST determines to include trade secrets, other confidential commercial information, or sensitive security information (SSI). In accordance with 49 CFR 105.30, you may ask OST to keep information confidential using the following procedures: (1) Mark “confidential” on each page of the original document you would like to keep confidential; (2) send FDMS both the original document and a second copy of the original document with the confidential information redacted; and (3) explain why the information is confidential (as a trade secret, other confidential commercial information, or SSI). In your explanation, you should provide enough information to enable OST to determine whether the information provided is protected by law and must be handled separately.

FOR FURTHER INFORMATION CONTACT: Robert C. Ashby, Acting Assistant General Counsel for Regulation and Enforcement, Office of General Counsel, Department of Transportation, 1200 New Jersey Avenue, SE., Washington, DC 20590, room W94-302, 202-366-9310, or via e-mail at bob.ashby@dot.gov.

SUPPLEMENTARY INFORMATION: Title: Transportation for Individuals With Disabilities—Accessibility of Over-the-Road Buses (OTRBs).

OMB Control No.: 2100-0019.

Type of Request: Extension of a currently approved collection.

Abstract: The Department of Transportation (DOT), in conjunction with the U.S. Architectural and Transportation Barriers Compliance Board, issued final access regulations for privately operated over-the-road buses (OTRBs) as required by the Americans with Disability Act (ADA) of 1990. The Final Rule on Accessibility of Over-the-Road Buses has the following recordkeeping/reporting requirements: The first has to do with 48 hour advance notice and compensation. The second has to do with equivalent service and compensation. The third has to do with reporting information on ridership on accessible fixed route buses. The fourth has to do with recordkeeping for 5 years. The fifth has to do with report submission to DOT annually. The sixth has to do with reporting information on the purchase and lease of accessible and inaccessible new and used buses. When initiating the information collection as part of the rulemaking that established the requirements in question, the Department provided the estimate of burdens set forth below. We have no reason to believe that the time necessary to comply with the information collection requirements has changed in the meantime. We would note that this estimate assumes compliance by bus operators with the information collection requirements. Reporting rates, however, have been low. The purpose of the information collection requirements is to provide data that the Department can use in reviewing the provisions of its rule and to assist the Department in its oversight of compliance by bus companies. In particular, the data will be used to assist the Department in conducting the reevaluation of the requirements of the over-the-road bus rule mentioned in the regulation itself.

Respondents: Charter/tour service operators, fixed route companies, small mixed service operators.

Estimated No. of Respondents: 3,448.

Average Annual Burden per Respondent: Variable.

Estimated Total Burden on Respondents: 316,226 hours.

Burden Statement: The amount of data sought is held to the minimum amount necessary to ensure compliance with the regulation. As suggested in comments from both the bus industry and disability community commenters during the rulemaking leading to this rule, recordkeeping and reporting of this kind would be useful for the purpose of ensuring compliance. The cumulative total burden for the information collection is between 167,889 hours (low estimate) to 182,873 hours (high estimate).

Issued in Washington, DC, on August 19, 2008.
Robert C. Ashby,
Acting Assistant General Counsel for Regulation and Enforcement.

[FR Doc. E8-19740 Filed 8-25-08; 8:45 am]

BILLING CODE 4910-9X-P